TENNESSEE VALLEY AUTHORITY

[Meeting No. 14-05]

Sunshine Act Meeting Notice

December 30, 2014.

The TVA Board of Directors will hold a public meeting on December 30, 2014, at 10 a.m. Eastern Time via Webcast. In order to join the Webcast, participants may log in as early as 9:50 a.m. ET. You can access the Webcast by going to: http://services.choruscall.com/links/tva141230.html (this link is also on the Board of Directors' page on TVA's Web site— www.tva.gov). Closed Captioning will be available for viewing.

Participants who are unable to view the Webcast, may dial into the call at 1-877-270-2148 or 412-902-6510 and ask for the TVA Board Meeting Call.

The Webcast will be available to view after the event occurs, and can be accessed on the Board of Directors' page on TVA's Web site.

Status: Open.

Agenda

Chair's Welcome

New Business

1. Report of the Finance, Rates, and Portfolio Committee

A. Generation Fleet Planning—Shawnee Fossil Plant Units 1 and 4

2. Committee Assignments

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: December 23, 2014.
Ralph E. Rodgers,
General Counsel and Secretary.

[FR Doc. 2014-30652 Filed 12-24-14; 4:15 pm]

BILLING CODE 8120-08-P